DEPARTMENT OF VETERANS AFFAIRS

Advisory Committee on Prosthetics and Special Disabilities Programs; Notice of Meeting

The Department of Veterans Affairs (VA) gives notice under Public Law 92-463 (Federal Advisory Committee Act) that the Advisory Committee on Prosthetics and Special Disabilities Programs will meet on November 16-17, 2005, at the Department of Veterans Affairs, 810 Vermont Avenue, NW., Washington, DC 20420. On November 16, the session will be held in the Omar Bradley Conference Room from 8:30 a.m. to 4:30 p.m. and on November 17, the session will be held in Room 830 from 8:30 a.m. to 12 noon. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve veterans with spinal cord injury, blindness or vision impairment, loss of or loss of the use of extremities, deafness or hearing impairment, or other serious incapacities in terms of daily life functions.

On the morning of November 16, the Committee will be briefed by the Chief Consultant, Rehabilitation Strategic Healthcare Group, and Director, Physical Medicine and Rehabilitation. In the afternoon, the Committee will be briefed by the directors of Ophthalmology and Optometry and Chief Prosthetics and Clinical Logistics Officer. On the morning of November 17, the Committee will be briefed by the Chief Research and Development Officer.

No time will be allocated for receiving oral presentations from the public. However, members of the public may direct questions or submit written statements for review by the Committee in advance of the meeting to Ms. Cynthia Wade, Designated Federal Officer, Veterans Health Administration, Patient Care Services, Rehabilitation Strategic Healthcare Group (117), Department of Veterans Affairs, 810 Vermont Avenue, NW., Washington, DC 20420. Any member of the public wishing to attend the meeting should contact Ms. Wade at (202) 273-8485.

Dated: October 19, 2005.
By Direction of the Secretary.
E. Philip Riggin,
Committee Management Officer.

[FR Doc. 05-21315 Filed 10-24-05; 8:45 am]

BILLING CODE 8320-01-M